DEPARTMENT OF TRANSPORTATION

Federal Aviation Administration

14 CFR Part 39

[Docket No. 2000-NM-119-AD; Amendment 39-12150; AD 2001-06-03]

RIN 2120-AA64

Airworthiness Directives; Airbus Model A330-301, -321, -322 Series Airplanes; and Model A340 Series Airplanes

AGENCY: Federal Aviation Administration, DOT.

ACTION: Final rule; request for comments.

SUMMARY: This amendment adopts a new airworthiness directive (AD), applicable to all Airbus Model A330-301, -321, and -322 series airplanes, and all Model A340 series airplanes. This action requires replacing, with oversize fasteners, the interference fit fasteners between ribs 2 and 7 and between ribs 9 and 11; and reinforcing the cover plate of the torsion box of the aft passenger/crew doors. This action is necessary to prevent propagation of fatigue cracking of the top wing skin and the torsion box of the aft passenger/crew doors, which could lead to reduced structural capability of the airplane. This action is intended to address the identified unsafe condition.

DATES: Effective April 9, 2001.

The incorporation by reference of certain publications listed in the regulations is approved by the Director of the Federal Register as of April 9, 2001.

Comments for inclusion in the Rules Docket must be received on or before April 23, 2001.

ADDRESSES: Submit comments in triplicate to the Federal Aviation Administration (FAA), Transport Airplane Directorate, ANM-114, Attention: Rules Docket No. 2000-NM-119-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-119-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, notified the FAA that an unsafe condition may exist on all Airbus Model A330 and A340 series airplanes. The DGAC advises that fatigue tests on the test wing revealed cracks propagating from fastener holes in the top wing skin and the rear spar flange between wing ribs 2 and 11. Cracks were also found at the cover plate of the torsion box of the aft passenger/crew door at frame (FR) 73A and FR75A. These conditions, if not corrected, could result in reduced structural capability of the airplane.

Explanation of Relevant Service Information

Airbus has issued the following service bulletins:

Model | Service bulletin | Actions
A330 | A330-57-3054, Revision 02, dated November 22, 1999 | Removal of the interference fit fasteners in the top skin panel and rear spar flange between rib 9 and rib 11.
|  | High frequency eddy current (HFEC) rototest inspection around the fastener holes to detect cracking.
A340 | A340-57-4061, Revision 02, dated November 23, 1999 | Drilling, reaming, and cold expanding the holes. Installing oversize interference fit fasteners.
A330 | A330-57-3053, Revision 01, dated June 15, 1999 | Removal of the interference fit fasteners in the top skin panel and rear spar flange between rib 2 and rib 7.
|  | HFEC rototest inspection around the fastener holes to detect cracking.
A340 | A340-57-4060, Revision 01, dated November 8, 1999 | Drilling, reaming, and cold expanding the holes. Installing new interference bolts.
A330 | A330-53-3054, Revision 01, dated May 17, 1999 | Reinforcement of the cover plate of the torsion box of the left and right aft passenger/crew doors, including installing gusset plates, cold expanding specified drain holes, drilling and reaming fastener holes, and installing oversize fasteners.
A340 | A340-53-4072, dated June 29, 1998

Accomplishment of the actions specified in the service bulletins is intended to adequately address the identified unsafe condition. The DGAC classified these service bulletins as mandatory and issued the following French airworthiness directives to ensure the continued airworthiness of these airplanes in France:

Airworthiness directive | Date
2000-124-113(B) | March 8, 2000.
2000-123-138(B) | March 8, 2000.
2000-122-112(B) | March 8, 2000.
2000-121-137(B) R1 | October 4, 2000.
2000-135-117(B) | March 22, 2000.
2000-136-142(B) | March 22, 2000.

FAA's Conclusions

These airplane models are manufactured in France and are type certificated for operation in the United States under the provisions of § 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design registered in the United States, this AD is being issued to prevent propagation of fatigue cracking of the top wing skin and the torsion box of the aft passenger/crew doors, which could lead to reduced structural capability of the airplane. This AD requires replacing, with oversize fasteners, the interference fit fasteners between ribs 2 and 7 and between ribs 9 and 11; and reinforcing the cover plate of the torsion box of the aft passenger/crew doors. The actions are required to be accomplished in accordance with the service bulletins described previously, except as discussed below.

Differences Between This AD and Relevant Service Information

Operators should note that, although the service bulletins specify that the manufacturer may be contacted for disposition of certain repair conditions, this AD requires the repair of those conditions to be accomplished in accordance with a method approved by either the FAA, or the DGAC (or its delegated agent). In light of the type of repair that would be required to address the identified unsafe condition, and in consonance with existing bilateral airworthiness agreements, the FAA has determined that, for this AD, a repair approved by either the FAA or the DGAC would be acceptable for compliance with this AD.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, the following cost estimates to comply with the requirements of this AD would apply:

Action (specified per Airbus service bulletin) | Work hours | Average labor rate | Parts cost | Per-airplane cost
A330-57-3054 or A340-57-4061 | 32 | $60 | $2,080 | $4,000
A330-57-3053 | 72 | 60 | 21,540 | 25,860
A340-57-4060 | 72 | 60 | 8,940 | 13,260
A330-53-3054 or A340-53-4072 | 12 or 20 (depending on kit) | 60 | 55-488 | 775-1,688

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2000-NM-119-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-06-03 Airbus Industrie: Amendment 39-12150. Docket 2000-NM-119-AD.

Applicability: All Model A330-301, -321, and -322 series airplanes; and all Model A340 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the propagation of fatigue cracking of the top wing skin and the torsion box of the aft passenger/crew doors, which could lead to reduced structural capability of the airplane, accomplish the following:

Modifications

(a) Do the modifications (including reaming, drilling, and cold expanding specified fastener holes; replacing fasteners; and performing high frequency eddy current inspections to detect cracking); as specified and at the applicable times in paragraphs (a)(1), (a)(2), and (a)(3) listed in Table 1 of this AD, as follows:

Table 1.—Required Actions
Modify | Before the airplane accumulates | For model | Per Airbus service bulletin
(1) The top wing skin and rear spar flange between wing ribs 9 and 11 | (i)17,200 total flight cycles or 53,500 total flight hours, whichever occurs first | A330 | A330-57-3054, Revision 02, dated November 22, 1999.
| (ii) 7,200 total flight cycles or 31,700 total flight hours, whichever occurs first | A340 | A340-57-4061, Revision 02, dated November 23, 1999.
(2) The top wing skin and the rear spar flange between wing ribs 2 and 7 | (i) 13,200 total flight cycles or 41,000 total flight hours, whichever occurs first | A330 | A330-57-3053, Revision 01, dated June 15, 1999.
| (ii) 9,100 total flight cycles or 45,500 total flight hours, whichever occurs first | A340, pre-Modification 41300 | A340-57-4060, Revision 01, dated November 8, 1999.
| (iii) 8,700 total flight cycles or 43,500 total flight hours, whichever occurs first | A340, post-Modification 41300 | A340-57-4060, Revision 01, dated November 8, 1999.
(3) The cover plate of the torsion box of the aft passenger/crew door | (i) 10,000 total flight cycles | A330 | A330-53-3054, Revision 01, dated May 17, 1999.
| (ii) 8,750 total flight cycles | A340 | A340-53-4072, dated June 29, 1998.

Note 2: Accomplishment, prior to the effective date of this AD, of a modification in accordance with a service bulletin listed in Table 2 of this AD is also acceptable for compliance with the applicable requirements of paragraph (a) of this AD, as follows:.

Table 2.—Additional Acceptable Service Bulletins
Applicable paragraph of this AD | Model | Applicable service bulletin | Revison level | Date
(a)(1) | A330 | A330-57-3054 | Original 01 | May 29, 1998. June 3, 1999.
| A340 | A340-57-4061 | Original 01 | May 29, 1998. October 29, 1998.
(a)(2) | A330 | A330-57-3053 | Original | September 23, 1998.
| A340 | A340-57-4060 | Original | June 3, 1999.
(a)(3) | A330 | A330-53-3054 | Original | June 29, 1998.

Repair

(b) If any crack or assembly difference is found during any inspection required by paragraph (a) of this AD, and the applicable service bulletin specifies to contact Airbus for appropriate actopm: Prior to further flight, repair in accordance with a method approved by the Manager, International Branch, ANM-116, FAA, Transport Airplane Directorate; or the Direction Generale de l'Aviation Civile (DGAC).

Alternative Methods of Compliance

(c) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) Except as required by paragraph (b) of this AD: The actions shall be done in accordance with the Airbus service bulletins listed in Table 3 of this AD, as follows:

Table 3.—Service Bulletins for Incorporation by Reference
Service bulletin number | Revision level | Date
A330-57-3054 | 02 | Nov. 22, 1999.
A340-57-4061 | 02 | Nov. 23, 1999.
A330-57-3053 | 01 | June 15, 1999.
A340-57-4060 | 01 | Nov. 8, 1999.
A330-53-3054 | 01 | May 17, 1999.
A340-53-4072 | Original | June 29, 1998.

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in the French airworthiness directives identified in Table 4 of this AD, as follows:

Table 4.—French Airworthiness Directives
Airworthiness directive | Date
2000-124-113(B) | March 8, 2000.
2000-123-138(B) | March 8, 2000.
2000-122-112(B) | March 8, 2000.
2000-121-137(B) R1 | October 4, 2000.
2000-135-117(B) | March 22, 2000.
2000-136-142(B) | March 22, 2000.

Effective Date

(f) This amendment becomes effective on April 9, 2001.

Issued in Renton, Washington, on March 12, 2001.
Vi L. Lipski,
Manager, Transport Airplane Directorate, Aircraft Certification Service.

[FR Doc. 01-6644 Filed 3-22-01; 8:45 am]

BILLING CODE 4910-13-U